DEPARTMENT OF COMMERCE

Foreign-Trade Zones Board

[Order No. 1587]

Expansion of Foreign-Trade Zone 104, Savannah, GA, Area

Pursuant to its authority under the Foreign-Trade Zones Act of June 18, 1934, as amended (19 U.S.C. 81a-81u), the Foreign-Trade Zones Board (the Board) adopts the following Order:

Whereas, the Savannah Airport Commission, grantee of Foreign-Trade Zone 104, submitted an application to the Board for authority to expand its zone to include a site at the Savannah Logistics Park at Morgan Center (Site 10—62.9 acres) in Pooler, Georgia, adjacent to the Savannah Customs and Border Protection port of entry (FTZ Docket 13-2008, filed 2/25/08);

Whereas, notice inviting public comment was given in the Federal Register (73 FR 12948, 3/11/08) and the application has been processed pursuant to the FTZ Act and the Board's regulations; and,

Whereas, the Board adopts the findings and recommendations of the examiner's report and addendum report, and finds that the requirements of the FTZ Act and Board's regulations are satisfied, and that the proposal is in the public interest;

Now, therefore, the Board hereby orders:

The application to expand FTZ 104 is approved, subject to the FTZ Act and the Board's regulations, including Section 400.28, subject to the Board's standard 2,000-acre activation limit for the overall general-purpose zone project, and further subject to a sunset provision that would terminate authority on November 30, 2013, for Site 10 if no activity has occurred under FTZ procedures before that date.

Signed at Washington, DC, this 20th day of November 2008.
David M. Spooner,
Assistant Secretary of Commerce for Import Administration, Alternate Chairman, Foreign-Trade Zones Board.

[FR Doc. E8-29984 Filed 12-16-08; 8:45 am]

BILLING CODE 3510-DS-P